DEPARTMENT OF HEALTH AND HUMAN SERVICES

Centers for Medicare & Medicaid Services

[Document Identifier: CMS-10512, CMS-R-153 and CMS-10277]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) the necessity and utility of the proposed information collection for the proper performance of the agency's functions; (2) the accuracy of the estimated burden; (3) ways to enhance the quality, utility, and clarity of the information to be collected; and (4) the use of automated collection techniques or other forms of information technology to minimize the information collection burden.

DATES: Comments must be received by January 28, 2014.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ______, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10512 Direct Service Workforce Resource Center CC Survey Instrument

CMS-R-153 Medicaid Drug Use Review Program

CMS-10277 Hospice Conditions of Participation and Supporting Regulations

Under the Paperwork Reduction Act (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: New collection (request for new OMB control number); Title of Information Collection: Direct Service Workforce (DSW) Resource Center (RC) Core Competencies (CC) Survey Instrument; Use: This survey is part of Phase IIIB of the Direct Service Workforce Resource Center's Road Map of Core Competencies for the Direct Service Workforce, a multi-phased research project implemented to identify a common set of core competencies across community-based long-term services and supports (LTSS) population sectors: Aging, behavioral health (including mental health and substance use), intellectual and developmental disabilities, and physical disabilities. Phase IIIB includes (1) Field testing and a national study to validate the core competency set among the workforce; (2) establishing the core competency set in the public domain; and (3) providing technical assistance to promote the development of specializations within each sector. The survey serves as item 1 of Phase IIIB.

No data that validates cross-sector core competencies in the direct service workforce has been previously collected. The data collected in the survey will be used by the DSW RC, states, direct service agencies and other partners interested in implementing the core competencies. The target populations for the surveys include DSW professionals, front line supervisors and managers, agency administrators and directors, participants and families/guardians, and self-advocates.

The overall purpose of this survey is to confirm and validate that the DSW RC's set of core competencies are relevant and applicable to actual direct service workers, their employers and their participants. Information gained from the survey will lend credibility to the set of core competencies. As the population of older adults with long-term services and supports needs grow, more emphasis will be placed on the DSW and a universally accepted set of core competencies such as that produced by the DSW RC would increase retention, agility and capacity of the workforce.

Collecting these data from a broad range of stakeholders in the direct service workforce industry will provide critical information about the relevance and validity of the set of core competencies. The surveys will collect the data in a manner that is consistent across all population sectors, service populations and states.

We, in collaboration with the DSW RC, will use the resources and tools developed and refined through this project to develop a Direct Service Workforce set of Core Competencies web-based toolkit that will be made available to all states and territories. It will also establish the core competency set in the public domain and provide technical assistance to promote the development of specializations within each sector. Form Number: CMS-10512 (OCN: 0938—New); Frequency: Once; Affected Public: Individuals and households, Private sector (business or other for-profits and not-for-profit institutions) and State, Local, or Tribal Governments; Number of Respondents: 4,800; Total Annual Responses: 4,800; Total Annual Hours: 2,400. (For policy questions regarding this collection contact Kathryn King at 410-786-1283).

2. Type of Information Collection Request: Extension of a currently approved collection; Title of Information Collection: Medicaid Drug Use Review Program; Use: This information collection is necessary to: Establish patient profiles in pharmacies, identify problems in prescribing, dispensing, or both prescribing and dispensing; determine each program's ability to meet minimum standards required for federal financial participation; and ensure quality pharmaceutical care for Medicaid patients. State Medicaid agencies that have prescription drug programs are required to perform prospective and retrospective drug use review in order to identify aberrations in prescribing, dispensing, and patient behavior. Form Number: CMS-R-153 (OCN: 0938-0659); Frequency: Yearly, quarterly, and occasionally; Affected Public: State, Local, or Tribal Governments; Number of Respondents: 51; Total Annual Responses: 510; Total Annual Hours: 20,298. (For policy questions regarding this collection contact Madlyn Kruh at 410-786-3239).

3. Type of Information Collection Request: Extension of a currently approved collection; Title of Information Collection: Hospice Conditions of Participation and Supporting Regulations; Use: The Conditions of Participation and accompanying requirements are used by Federal or State surveyors as a basis for determining whether a hospice qualifies for approval or re-approval under Medicare. We believe that the availability to the hospice of the type of records and general content of records, which the final rule (72 FR 32088) specifies, is standard medical practice, and is necessary in order to ensure the well-being and safety of patients and professional treatment accountability. There are no program changes to this information collection request, meaning there are no new requirements; however, we are currently adjusting the numbers of respondents and responses. The final numbers will be present in the 30-day notice. Form Number: CMS-10277 (OCN: 0938-1067); Frequency: Yearly; Affected Public: Private sector—Business or other for-profit and Not-for-profit institutions; Number of Respondents: 2,872; Total Annual Responses: 1,808,345; Total Annual Hours: 2,152,396. (For policy questions regarding this collection contact Danielle Shearer at 410-786-6617.)

Dated: November 22, 2013.
Martique Jones,
Deputy Director, Regulations Development Group, Office of Strategic Operations and Regulatory Affairs.

[FR Doc. 2013-28537 Filed 11-27-13; 8:45 am]

BILLING CODE 4120-01-P